DEPARTMENT OF ENERGY

Federal Energy Regulatory Commission

Combined Notice of Filings #1

Take notice that the Commission received the following electric rate filings:

Docket Numbers: ER10-1257-003; ER10-1258-003.

Applicants: Wabash Valley Power Association, Inc., Wabash Valley Energy Marketing, Inc.

Description: Notice of Non Material Change in Status of Wabash Valley Power Association, Inc., et al.

Filed Date: 9/9/13.

Accession Number: 20130909-5422.

Comments Due: 5 p.m. ET 9/30/13.

Docket Numbers: ER10-2193-001.

Applicants: H.Q. Energy Services (U.S.) Inc.

Description: Informational Filing Related to Regulatory Proceedings in Quebec.

Filed Date: 6/25/12.

Accession Number: 20120625-5193.

Comments Due: 5 p.m. ET 10/1/13.

Docket Numbers: ER10-2193-002.

Applicants: H.Q. Energy Services (U.S.) Inc.

Description: Supplement to June 25, 2012 Informational Filing Related to Regulatory Proceedings in Quebec.

Filed Date: 1/17/2013.

Accession Number: 20130117-5200.

Comments Due: 5 p.m. ET 10/1/13.

Docket Numbers: ER11-2780-015.

Applicants: Safe Harbor Water Power Corporation.

Description: Notice of Change in Status of Safe Harbor Water Power Corporation.

Filed Date: 9/9/13.

Accession Number: 20130909-5420.

Comments Due: 5 p.m. ET 9/30/13.

Docket Numbers: ER12-1265-005.

Applicants: Midcontinent Independent System Operator, Inc.

Description: Midcontinent Independent System Operator, Inc. submits 09-09-2013 Order 719 Compliance Filing to be effective 6/12/2012.

Filed Date: 9/9/13.

Accession Number: 20130909-5375.

Comments Due: 5 p.m. ET 9/30/13.

Docket Numbers: ER13-1657-000.

Applicants: New England Power Company.

Description: New England Power Company submits Refund Report Regarding Interconnection Agreements with Wheelabrator Saugus to be effective N/A.

Filed Date: 9/9/13.

Accession Number: 20130909-5294.

Comments Due: 5 p.m. ET 9/30/13.

Docket Numbers: ER13-2157-001.

Applicants: Midcontinent Independent System Operator, Inc.

Description: 09-09-2013 SA 2289 Ameren-Hoopeston Wind Errata to be effective 8/15/2013.

Filed Date: 9/9/13.

Accession Number: 20130909-5061.

Comments Due: 5 p.m. ET 9/30/13.

Docket Numbers: ER13-2358-000.

Applicants: Southwest Power Pool, Inc.

Description: Southwest Power Pool, Inc. submits Removal of Exception to Provisions of Attachment L, Section VI to be effective 11/8/2013.

Filed Date: 9/9/13.

Accession Number: 20130909-5282.

Comments Due: 5 p.m. ET 9/30/13.

Docket Numbers: ER13-2359-000.

Applicants: Southwest Power Pool, Inc.

Description: Southwest Power Pool, Inc. submits 1637R1 Kansas Electric Power Cooperative, Inc. NITSA and NOA to be effective 6/1/2013.

Filed Date: 9/9/13.

Accession Number: 20130909-5311.

Comments Due: 5 p.m. ET 9/30/13.

Docket Numbers: ER13-2360-000.

Applicants: UGI Utilities Inc., PJM Interconnection, L.L.C.

Description: UGI Utilities Inc. submits UGI submits corrections to formula rate template—PJM OATT Att H-8C & H-8E to be effective 11/9/2013.

Filed Date: 9/9/13.

Accession Number: 20130909-5361.

Comments Due: 5 p.m. ET 9/30/13.

Docket Numbers: ER13-2361-000.

Applicants: NSTAR Electric Company.

Description: NSTAR Electric Company submits MBTA Interconnection Agreement to be effective 9/1/2013.

Filed Date: 9/9/13.

Accession Number: 20130909-5371.

Comments Due: 5 p.m. ET 9/30/13.

Docket Numbers: ER13-2362-000.

Applicants: Duke Energy Progress, Inc.

Description: Duke Energy Progress, Inc. submits Cancellation of Duke Energy Progress, Inc. Cost-Based Rates Tariff to be effective 11/9/2013.

Filed Date: 9/10/13.

Accession Number: 20130910-5040.

Comments Due: 5 p.m. ET 10/1/13.

Docket Numbers: ER13-2363-000.

Applicants: Duke Energy Progress, Inc.

Description: Duke Energy Progress, Inc. submits CBR Name Change to be effective 11/9/2013.

Filed Date: 9/10/13.

Accession Number: 20130910-5041.

Comments Due: 5 p.m. ET 10/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2013.
Nathaniel J. Davis, Sr.,
Deputy Secretary.

[FR Doc. 2013-22524 Filed 9-16-13; 8:45 am]

BILLING CODE 6717-01-P